DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See Supplementary Information section.

FOR FURTHER INFORMATION CONTACT: OFAC: Associate Director for Global Targeting, tel.: 202-622-2420; Assistant Director for Sanctions Compliance & Evaluation, tel.: 202-622-2490; Assistant Director for Licensing, tel.: 202-622-2480; Assistant Director for Regulatory Affairs, tel. 202-622-4855; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's website (www.treasury.gov/ofac).

Notice of OFAC Action(s)

On November 15, 2018, OFAC determined that the property and interests in property subject to U.S. jurisdiction of the following persons are blocked under the relevant sanctions authorities listed below.

Individuals:

1. ABAHUSSAIN, Mansour Othman M. (a.k.a. ABAHUSEYIN, Mansur Othman M; a.k.a. HUSSEIN, Mansour Othman Aba); DOB 11 Aug 1972; alt. DOB 10 Aug 1972; POB Majmaa, Saudi Arabia; nationality Saudi Arabia; Gender Male; Passport S059033 (Saudi Arabia) issued 22 Feb 2016 expires 28 Dec 2020 (individual) [GLOMAG].

Designated pursuant to section 1(a)(ii)(A) of Executive Order 13818 (E.O. 13818) of December 20, 2017, “Blocking the Property of Persons Involved in Serious Human Rights Abuse or Corruption,” for being responsible for or complicit in, or having directly or indirectly engaged in, serious human rights abuse.

2. ALARIFI, Naif Hassan S. (a.k.a. AL-ARIFI, Nayif Hasan Saad); DOB 28 Feb 1986; POB Riyadh, Saudi Arabia; nationality Saudi Arabia; Gender Male; Passport M644150 (Saudi Arabia) issued 15 Jan 2014 expires 22 Nov 2018 (individual) [GLOMAG].

Designated pursuant to section 1(a)(ii)(A) of E.O. 13818 for being responsible for or complicit in, or having directly or indirectly engaged in, serious human rights abuse.

3. ALBALAWI, Fahad Shabib A.; DOB 24 Jan 1985; POB Arar, Saudi Arabia; nationality Saudi Arabia; Gender Male; Passport N163990 (Saudi Arabia) issued 24 May 2015 expires 30 Mar 2020 (individual) [GLOMAG].

Designated pursuant to section 1(a)(ii)(A) of E.O. 13818 for being responsible for or complicit in, or having directly or indirectly engaged in, serious human rights abuse.

4. ALBOSTANI, Meshal Saad M. (a.k.a. ALBOST, Meshal Saad M; a.k.a. AL-BOSTANI, Meshal Saad); DOB 27 Mar 1987; nationality Saudi Arabia; Gender Male; Passport R339037 (Saudi Arabia) expires 09 Jun 2020 (individual) [GLOMAG].

Designated pursuant to section 1(a)(ii)(A) of E.O. 13818 for being responsible for or complicit in, or having directly or indirectly engaged in, serious human rights abuse.

5. ALHARBI, Thaar Ghaleb T.; DOB 01 Aug 1979; POB Riyadh, Saudi Arabia; nationality Saudi Arabia; Gender Male; Passport P723557 (Saudi Arabia) issued 05 Feb 2015 expires 13 Dec 2019 (individual) [GLOMAG].

Designated pursuant to section 1(a)(ii)(A) of E.O. 13818 for being responsible for or complicit in, or having directly or indirectly engaged in, serious human rights abuse.

6. ALHAWSAWI, Abdulaziz Mohammed M.; DOB 20 Jul 1987; POB Riyadh, Saudi Arabia; nationality Saudi Arabia; Gender Male; Passport P051811 (Saudi Arabia) issued 15 May 2014 expires 23 Mar 2019; National ID No. 1044087474 (Saudi Arabia) (individual) [GLOMAG].

Designated pursuant to section 1(a)(ii)(A) of E.O. 13818 for being responsible for or complicit in, or having directly or indirectly engaged in, serious human rights abuse.

7. ALMADANI, Mustafa Mohammed M. (a.k.a. AL-MADANI, Mustafa); DOB 08 Dec 1961; POB Riyadh, Saudi Arabia; alt. POB Makkah, Saudi Arabia; nationality Saudi Arabia; Gender Male; Passport P797794 (Saudi Arabia) issued 16 Mar 2015 expires 20 Jan 2020; National ID No. 1011123229 (Saudi Arabia) (individual) [GLOMAG].

Designated pursuant to section 1(a)(ii)(A) of E.O. 13818 for being responsible for or complicit in, or having directly or indirectly engaged in, serious human rights abuse.

8. ALOTAIBI, Khalid Aedh G. (a.k.a. ALTAIBI, Khaled Aedh G); DOB 28 Jun 1988; POB Afif, Saudi Arabia; nationality Saudi Arabia; Gender Male; Passport P139681 (Saudi Arabia) issued 27 May 2014 expires 04 Apr 2019; National ID No. 1053629885 (Saudi Arabia) (individual) [GLOMAG].

Designated pursuant to section 1(a)(ii)(A) of E.O. 13818 for being responsible for or complicit in, or having directly or indirectly engaged in, serious human rights abuse.

9. ALOTAIBI, Badr Lafi M. (a.k.a. AL OTAIBI, Badr Lafi M.); DOB 06 Jul 1973; POB Riyadh, Saudi Arabia; nationality Saudi Arabia; Gender Male; Passport P667604 (Saudi Arabia) issued 07 Jan 2015 expires 13 Nov 2019 (individual) [GLOMAG].

Designated pursuant to section 1(a)(ii)(A) of E.O. 13818 for being responsible for or complicit in, or having directly or indirectly engaged in, serious human rights abuse.

10. AL-OTAIBI, Mohammad (a.k.a. ALOTAIBI, Mohammed I.); DOB 06 Nov 1964; POB Riyadh, Saudi Arabia; nationality Saudi Arabia; Gender Male (individual) [GLOMAG].

Designated pursuant to section 1(a)(ii)(A) of E.O. 13818 for being responsible for or complicit in, or having directly or indirectly engaged in, serious human rights abuse.

11. ALQAHTANI, Saif Saad Q.; DOB 1973; nationality Saudi Arabia; Gender Male (individual) [GLOMAG].

Designated pursuant to section 1(a)(ii)(A) of E.O. 13818 for being responsible for or complicit in, or having directly or indirectly engaged in, serious human rights abuse.

12. ALSEHRI, Waleed Abdullah M. (a.k.a. ALSHEHRI, Waleed Abdullah M.); DOB 05 Nov 1980; POB Riyadh, Saudi Arabia; nationality Saudi Arabia; Gender Male; Passport R120404 (Saudi Arabia) issued 31 May 2015 expires 06 Apr 2020 (individual) [GLOMAG].

Designated pursuant to section 1(a)(ii)(A) of E.O. 13818 for being responsible for or complicit in, or having directly or indirectly engaged in, serious human rights abuse.

13. ALSEHRI, Turki Muserref M. (a.k.a. ALSEHRI, Turki Musharraf M); DOB 1982; nationality Saudi Arabia; Gender Male (individual) [GLOMAG].

Designated pursuant to section 1(a)(ii)(A) of E.O. 13818 for being responsible for or complicit in, or having directly or indirectly engaged in, serious human rights abuse.

14. ALZAHRANI, Mohammed Saad H.; DOB 08 Mar 1988; POB Riyadh, Saudi Arabia; nationality Saudi Arabia; Gender Male; Passport T233763 (Saudi Arabia) issued 16 Jun 2016 expires 23 Apr 2021; National ID No. 1060613203 (Saudi Arabia) (individual) [GLOMAG].

Designated pursuant to section 1(a)(ii)(A) of E.O. 13818 for being responsible for or complicit in, or having directly or indirectly engaged in, serious human rights abuse.

15. MUTREB, Maher Abdulaziz M.; DOB 23 May 1971; POB Makkah, Saudi Arabia; nationality Saudi Arabia; Gender Male; Passport D088677 (Saudi Arabia) issued 16 Aug 2017 expires 23 Jun 2022 (individual) [GLOMAG].

Designated pursuant to section 1(a)(ii)(A) of E.O. 13818 for being responsible for or complicit in, or having directly or indirectly engaged in, serious human rights abuse.

16. AL-QAHTANI, Saud (a.k.a. ALQAHTANI, Saud Abdullah S), Riyadh, Saudi Arabia; DOB 07 Jul 1978; POB Riyadh, Saudi Arabia; nationality Saudi Arabia; Gender Male; Passport D079021 (individual) [GLOMAG].

Designated pursuant to section 1(a)(ii)(A) of E.O. 13818 for being responsible for or complicit in, or having directly or indirectly engaged in, serious human rights abuse.

17. TUBAIGY, Salah Muhammed A. (a.k.a. AL-TUBAIQI, Salah); DOB 20 Aug 1971; POB Jazan, Saudi Arabia; nationality Saudi Arabia; Gender Male (individual) [GLOMAG].

Designated pursuant to section 1(a)(ii)(A) of E.O. 13818 for being responsible for or complicit in, or having directly or indirectly engaged in, serious human rights abuse.

Dated: November 15, 2018.
Andrea Gacki,
Director, Office of Foreign Assets Control.

[FR Doc. 2018-25346 Filed 11-20-18; 8:45 am]

BILLING CODE 4810-AL-P